DEPARTMENT OF THE INTERIOR

Fish and Wildlife Service

[FWS-R8-FHC-2015-N145]; [FXFR1334088TWG0W4-123-FF08EACT00]

Trinity River Adaptive Management Working Group; Teleconference

AGENCY: Fish and Wildlife Service, Interior.

ACTION: Notice.

SUMMARY: We, the U.S. Fish and Wildlife Service, announce a teleconference for the Trinity River Adaptive Management Working Group (TAMWG). The TAMWG is a Federal advisory committee that affords stakeholders the opportunity to give policy, management, and technical input concerning Trinity River (California) restoration efforts to the Trinity Management Council (TMC). The TMC interprets and recommends policy, coordinates and budget oversight.

DATES: Public teleconference call: TAMWG will run from 10 a.m. to 12 p.m. Pacific time on Tuesday, August 25, 2015. Teleconference leader: Joe Polos, Toll free number: 866-715-1246, Participant Pass Code: 8007758, Deadlines: For deadlines on submitting written material, please see “Public Input” under SUPPLEMENTARY INFORMATION.

ADDRESSES: The teleconference number will be at the U.S. Fish and Wildlife Office, 1655 Heindon Road, Arcata, CA 95521.

FOR FURTHER INFORMATION CONTACT: Elizabeth W. Hadley, Redding Electric Utility, by mail at 777 Cypress Avenue, Redding, CA 96001; by telephone at 530-339-7327; or by email at ehadley@reupower.com or Joseph C. Polos, by mail at U.S. Fish and Wildlife Service, 1655 Heindon Road, Arcata, CA 95521; by telephone at 707-825-5149; or by email at joe_polos@fws.gov. Individuals with a disability may request an accommodation by sending an email to either point of contact.

SUPPLEMENTARY INFORMATION: In accordance with the requirements of the Federal Advisory Committee Act, 5 U.S.C. App., we announce that the TAMWG and the TMC will hold a joint teleconference meeting.

Background

The TAMWG affords stakeholders the opportunity to give policy, management, and technical input concerning Trinity River (California) restoration efforts to the TMC. The TMC interprets and recommends policy, coordinates and reviews management actions, and provides organizational budget oversight.

Meeting Agenda

• FY 2016 Trinity River Restoration Plan budget.

The final agenda will be posted on the Internet at http://www.fws.gov/arcata.

Public Input
If you wish to | You must contact Elizabeth Hadley FOR FURTHER INFORMATION CONTACT) no later than
Submit written information or questions for the TAMWG to consider during the teleconference | August 18, 2015.

Interested members of the public may submit relevant information or questions for the TAMWG to consider during the meeting. Written statements must be received by the date above, so that the information may be available to the TAMWG for their consideration prior to this meeting. Written statements must be supplied to Elizabeth Hadley in one of the following formats: One hard copy with original signature, or one electronic copy with a digital signature via email (acceptable file formats are Adobe Acrobat PDF, MS Word, PowerPoint, or rich text file).

Registered speakers who wish to expand on their oral statements, or those who wished to speak but could not be accommodated on the agenda, may submit written statements to Elizabeth Hadley up to 7 days after the meeting.

Meeting Minutes

Summary minutes of the meeting will be maintained by Elizabeth Hadley (see FOR FURTHER INFORMATION CONTACT). The draft minutes will be available for public inspection within 14 days after the meeting, and will be posted on the TAMWG Web site at http://www.fws.gov/arcata.

Dated: August 4, 2015.
Vina N. Frye,
Fish Biologist, Arcata Fish and Wildlife Office, Arcata, California.

[FR Doc. 2015-19777 Filed 8-11-15; 8:45 am]

BILLING CODE 4310-55-P